DEPARTMENT OF TRANSPORTATION

Federal Aviation Administration

Aviation Rulemaking Advisory Committee; Meeting

AGENCY: Federal Aviation Administration (FAA), DOT.

ACTION: Notice of Aviation Rulemaking Advisory Committee (ARAC) meeting.

SUMMARY: This notice announces a meeting of the ARAC.

DATES: The FAA will hold the meeting on Thursday, March 21, 2024, from 1 p.m. to 4 p.m. eastern time.

The FAA must receive requests to attend the meeting by Monday, March 11, 2024.

The FAA must receive requests for accommodations to a disability by Monday, March 11, 2024.

The FAA must receive any written materials to during the meeting by Monday, March 11, 2024.

ADDRESSES: The meeting will be held at the Federal Aviation Administration, 800 Independence Avenue SW, Washington, DC 20591, and virtually on Zoom. However, if the FAA is unable to hold the meeting in person due to circumstances outside of its control, the FAA will hold a virtual meeting and notify registrants with the meeting details and post any updates on the FAA Committee website. Members of the public who wish to observe the meeting must RSVP by emailing 9-awa-arac@faa.gov. General committee information, including copies of the meeting minutes, will be available on the FAA Committee website at https://www.faa.gov/regulations_policies/rulemaking/committees/documents/.

FOR FURTHER INFORMATION CONTACT: Aliah Duckett, Federal Aviation Administration, 800 Independence Avenue SW, Washington, DC 20591, telephone (202) 267-7489; email 9-awa-arac@faa.gov. Any committee-related request should be sent to the person listed in this section.

SUPPLEMENTARY INFORMATION:

I. Background

The ARAC was created under the Federal Advisory Committee Act (FACA), in accordance with title 5 of the United States Code (5 U.S.C. 1001) to provide advice and recommendations to the FAA concerning rulemaking activities, such as aircraft operations, airman and air agency certification, airworthiness standards and certification, airports, maintenance, noise, and training.

II. Agenda

At the meeting, the agenda will cover the following topics:

• Status Updates

○ Active Working Groups

○ Transport Airplane and Engine (TAE) Subcommittee

• Recommendation Reports

• Any Other Business

Detailed agenda information will be posted on the FAA Committee website address listed in the ADDRESSES section at least one week in advance of the meeting.

III. Public Participation

The meeting will be open to the public for virtual or in person attendance on a first-come, first-served basis, as there is limited space. Please confirm your attendance with the person listed in the FOR FURTHER INFORMATION CONTACT section and provide the following information: full legal name, country of citizenship, and name of your industry association or applicable affiliation. Please indicate if you plan to observe the meeting in person or virtually. The FAA will email registrants the meeting access information in a timely manner prior to the start of the meeting.

The U.S. Department of Transportation is committed to providing equal access to this meeting for all participants. If you need alternative formats or services because of a disability, such as sign language, interpretation, or other ancillary aids, please contact the person listed in the FOR FURTHER INFORMATION CONTACT section.

The FAA is not accepting oral presentations at this meeting due to time constraints. Any member of the public may present a written statement to the committee at any time. The public may present written statements to ARAC by providing a copy to the Designated Federal Officer via the email listed in the FOR FURTHER INFORMATION CONTACT section.

Issued in Washington, DC, on January 29, 2024.
Brandon Roberts,
Executive Director, Office of Rulemaking.

[FR Doc. 2024-02091 Filed 2-1-24; 8:45 am]

BILLING CODE 4910-13-P